DEPARTMENT OF AGRICULTURE

Animal and Plant Health Inspection Service

9 CFR Part 77

[Docket No. APHIS-2006-0145]

Tuberculosis in Cattle and Bison; State and Zone Designations; Texas

AGENCY: Animal and Plant Health Inspection Service, USDA.

ACTION: Affirmation of interim rule as final rule.

SUMMARY: We are adopting as a final rule, without change, an interim rule that amended the bovine tuberculosis regulations regarding State and zone classifications by raising the designation of Texas from modified accredited advanced to accredited-free. The interim rule was based on our determination that Texas met the criteria for designation as an accredited-free State.

DATES: Effective on January 4, 2007, we are adopting as a final rule the interim rule published at 71 FR 58252-58254 on October 3, 2006.

FOR FURTHER INFORMATION CONTACT: Dr. Kathy Orloski, Epidemiologist, National Tuberculosis Eradication Program, National Center for Animal Health Programs, VS, APHIS, 2150 Centre Avenue, Building B, M/S 3E20, Fort Collins, CO 80526-8117, (970) 494-7221.

SUPPLEMENTARY INFORMATION:

Background

In an interim rule ¹ effective on September 29, 2006, and published in the Federal Register on October 3, 2006 (71 FR 58252-58254, Docket No. APHIS-2006-0145), we amended the bovine tuberculosis regulations regarding State and zone classifications in 9 CFR part 77 by raising the designation of Texas from modified accredited advanced to accredited-free. The interim rule was based on our determination that Texas met the criteria for designation as an accredited-free State.

¹ To view the interim rule and the comment we received, go to http://www.regulations.gov, click on the “Advanced Search” tab, and select “Docket Search.” In the Docket ID field, enter APHIS-2006-0145, then click “Submit.” Clicking on the Docket ID link in the search results page will produce a list of all documents in the docket.

Comments on the interim rule were required to be received on or before December 4, 2006. We received one comment by that date, from a private citizen. The commenter stated his belief that if his herd of cattle is tested, then all neighboring herds should be tested to ensure that all cattle in the area are free of tuberculosis. We noted in the interim rule that State animal health authorities in Texas have demonstrated to us that the State meets the criteria for accredited-free status set forth in the definition of accredited-free State or zone in § 77.5 of the tuberculosis regulations. Those criteria include a requirement for zero percent prevalence of affected cattle or bison herds.

Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 71 FR 58252-58254 on October 3, 2006.

Done in Washington, DC, this 26th day of December 2006.
Kevin Shea,
Acting Administrator, Animal and Plant Health Inspection Service.

[FR Doc. E6-22545 Filed 1-3-07; 8:45 am]

BILLING CODE 3410-34-P